DEPARTMENT OF COMMERCE

National Oceanic and Atmospheric Administration

RIN 0648-XC571

Pacific Fishery Management Council; Public Meetings

AGENCY: National Marine Fisheries Service (NMFS), National Oceanic and Atmospheric Administration (NOAA), Commerce.

ACTION: Notice of public meetings.

SUMMARY: The Pacific Council and its advisory entities will hold public meetings.

DATES: The Pacific Council and its advisory entities will meet April 5-11, 2013. The Pacific Council meeting will begin on Saturday, April 6, 2013 at 8 a.m., reconvening each day through Thursday, April 11, 2013. All meetings are open to the public, except a closed session will be held at the end of the scheduled agenda on Sunday, April 7 to address litigation and personnel matters. In addition to the formal, numbered agenda items, there will be an informal Council informational session on the morning of Saturday, April 6 to help with understanding issues and objectives associated with adopting a final Pacific Coast Fishery Ecosystem Plan. The Pacific Council will meet as late as necessary each day to complete its scheduled business.

ADDRESSES: Meetings of the Pacific Council and its advisory entities will be held at the Sheraton Portland Airport Hotel, 8235 NE. Airport Way, Portland, OR 97220; telephone: (503) 281-2500.

Council address: Pacific Fishery Management Council, 7700 NE. Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The following items are on the Pacific Council agenda, but not necessarily in this order.

A. Call to Order

1. Opening Remarks

2. Roll Call

3. Executive Director's Report

4. Approve Agenda

B. Administrative Matters

1. Formalize Council Action From March 2013

2. Expansion of Gulf of the Farallones and Cordell Bank National Marine Sanctuaries

3. Ocean Observation Initiative Report

4. Legislative Matters

5. Approval of Council Meeting Minutes

6. Membership Appointments and Council Operating Procedures

7. Future Council Meeting Agenda and Workload Planning

C. Open Comment Period

1. Comments on Non-Agenda Items

D. Groundfish Management

1. NMFS Report

2. Status of Rationalized Fishery

3. Alternatives for Stock Complex Restructuring

4. Implementation of the 2013 Pacific Whiting Fishery Under the U.S.-Canada Pacific Whiting Agreement

5. Consider Barotrauma Device Mortality Rates

6. Groundfish Essential Fish Habitat Synthesis Report and Request for Proposals

7. Trawl Rationalization Trailing Actions—Electronic Monitoring Regulatory Process

8. Consideration of Inseason Adjustments

E. Salmon Management

1. Tentative Adoption of 2013 Ocean Salmon Management Measures for Analysis

2. Clarify Council Direction 2013 Management Measures

3. Salmon Amendment 18—Essential Fish Habitat Revision

4. Final Action on 2013 Management Measures

5. Methodology Review Process and Preliminary Topic Selection for 2013

6. Columbia Basin Situation Assessment

F. Habitat

1. Current Habitat Issues

G. Pacific Halibut Management

1. Final Incidental Catch Recommendations for Salmon Troll and Fixed Gear Sablefish Fisheries

H. Ecosystem Based Management

1. Final Fishery Ecosystem Plan

I. Coastal Pelagic Species Management

1. Sardine Harvest Parameters Workshop Report

2. Sardine Fishery Start Date

J. Enforcement Issues

1. Preliminary Vessel Monitoring System Declaration Regulations

Schedule of Ancillary Meetings

Friday, April 5, 2013

Groundfish Management Team 8 a.m.

Groundfish Advisory Subpanel 8 a.m.

Habitat Committee 8 a.m.

Model Evaluation Workgroup 8 a.m.

Salmon Advisory Subpanel 8 a.m.

Salmon Technical Team 8 a.m.

Scientific and Statistical Committee 8 a.m.

Tribal Policy Group 8 a.m.

Legislative Committee 2 p.m.

Saturday, April 6, 2013

Washington State Delegation 7 a.m.

California State Delegation 7 a.m.

Oregon State Delegation 7 a.m.

Enforcement Consultants 8 a.m.

Groundfish Advisory Subpanel 8 a.m.

Groundfish Management Team 8 a.m.

Salmon Advisory Subpanel 8 a.m.

Salmon Technical Team 8 a.m.

Scientific and Statistical Committee 8 a.m.

Tribal Policy Group As Needed

Tribal and Washington Technical Group As Needed

Chair's Reception 6 p.m.

Sunday, April 7, 2013

California State Delegation 7 a.m.

Oregon State Delegation 7 a.m.

Washington State Delegation 7 a.m.

Ecosystem Advisory Subpanel 8 a.m.

Essential Fish Habitat Review Committee 8 a.m.

Groundfish Management Team 8 a.m.

Groundfish Advisory Subpanel 8 a.m.

Salmon Advisory Subpanel 8 a.m.

Salmon Technical Team 8 a.m.

Scientific & Statistical Committee Economic Subcmte 8 a.m.

Enforcement Consultants As Needed

Tribal Policy Group As Needed

Tribal and Washington Technical Group As Needed

Monday, April 8, 2013

California State Delegation 7 a.m.

Oregon State Delegation 7 a.m.

Washington State Delegation 7 a.m.

Ecosystem Advisory Subpanel 8 a.m.

Groundfish Advisory Subpanel 8 a.m.

Groundfish Management Team 8 a.m.

Salmon Advisory Subpanel 8 a.m.

Salmon Technical Team 8 a.m.

Enforcement Consultants As Needed

Tribal Policy Group As Needed

Tribal and Washington Technical Group As Needed

Tuesday, April 9, 2012

California State Delegation 7 a.m.

Oregon State Delegation 7 a.m.

Washington State Delegation 7 a.m.

Coastal Pelagic Species Advisory Subpanel 8 a.m.

Coastal Pelagic Species Management Team 8 a.m.

Salmon Advisory Subpanel 8 a.m.

Salmon Technical Team 8 a.m.

Enforcement Consultants As Needed

Tribal Policy Group As Needed

Tribal and Washington Technical Group As Needed

Wednesday, April 10, 2013

California State Delegation 7 a.m.

Oregon State Delegation 7 a.m.

Washington State Delegation 7 a.m.

Coastal Pelagic Species Advisory Subpanel 8 a.m.

Coastal Pelagic Species Management Team 8 a.m.

Salmon Advisory Subpanel 8 a.m.

Salmon Technical Team 8 a.m.

Enforcement Consultants As Needed

Tribal Policy Group As Needed

Tribal and Washington Technical Group As Needed

Thursday, April 11, 2013

California State Delegation 7 a.m.

Oregon State Delegation 7 a.m.

Washington State Delegation 7 a.m.

Tribal Policy Group As Needed

Tribal and Washington Technical Group As Needed

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: March 13, 2013.
Tracey L. Thompson,
Acting Deputy Director, Office of Sustainable Fisheries, National Marine Fisheries Service.

[FR Doc. 2013-06179 Filed 3-15-13; 8:45 am]

BILLING CODE 3510-22-P